DEPARTMENT OF TRANSPORTATION

Federal Aviation Administration

14 CFR Part 39

[Docket No. 2002-NM-331-AD]

RIN 2120-AA64

Airworthiness Directives; Aerospatiale Model ATR42-200, -300, -320, and -500 Series Airplanes; and Model ATR72-102, -202, -212, and -212A Series Airplanes

AGENCY: Federal Aviation Administration, DOT.

ACTION: Notice of proposed rulemaking (NPRM).

SUMMARY: This document proposes the adoption of a new airworthiness directive (AD) that is applicable to certain Aerospatiale Model ATR42-200, -300, —320, and -500 series airplanes; and Model ATR72-102, -202, -212, and -212A series airplanes. This proposal would require modification of the flight attendant's seat located in the front of the cabin, and follow-on actions. This action is necessary to prevent release of the forward flight attendant's shoulder restraint harness, which could result in injury to the flight attendant in case of turbulence. This action is intended to address the identified unsafe condition.

DATES: Comments must be received by March 24, 2003.

ADDRESSES: Submit comments in triplicate to the Federal Aviation Administration (FAA), Transport Airplane Directorate, ANM-114, Attention: Rules Docket No. 2002-NM-331-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-331-AD” in the subject line and need not be submitted in triplicate. Comments sent via the Internet as attached electronic files must be formatted in Microsoft Word 97 for Windows or ASCII text.

The service information referenced in the proposed rule may be obtained from Aerospatiale, 316 Route de Bayonne, 31060 Toulouse, Cedex 03, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-331-AD.” The postcard will be date stamped and returned to the commenter.

Availability of NPRMs

Any person may obtain a copy of this NPRM by submitting a request to the FAA, Transport Airplane Directorate, ANM-114, Attention: Rules Docket No. 2002-NM-331-AD, 1601 Lind Avenue, SW., Renton, Washington 98055-4056.

Discussion

The Direction Générale de l'Aviation Civile (DGAC), which is the airworthiness authority for France, notified the FAA that an unsafe condition may exist on certain Aerospatiale Model ATR42-200, -300, -320, and -500 series airplanes; and Model ATR72-102, -202, -212, and -212A series airplanes. The DGAC advises that the inertia-reel harness installed on the forward flight attendant's seat does not ensure effective restraint of the flight attendant's shoulders against the backrest of the seat, and does not adequately restrain head movement. Investigation indicates that such a condition is attributed to the design of the inertia-reel harness. Consequently, in case of turbulence, there is a risk that the head of the flight attendant could hit the partitions located on either side of the forward flight attendant's seat. This condition, if not corrected, could result in injury to the flight attendant.

Explanation of Relevant Service Information

Avions de Transport Regional (ATR) has issued Service Bulletin ATR42-25-0141, dated October 15, 2002 (for certain Model ATR42-200, -300, -320, and -500 series airplanes), and Service Bulletin ATR72-25-1082, dated October 15, 2002 (for certain Model ATR72-102, -202, -212, and -212A series airplanes). These service bulletins specify procedures for modifying the flight attendant's seat located in the front of the cabin. The modification includes replacing the inertia-reel harness with a new fixed harness, and replacing the backrest cover and backrest cushion with new components. Follow-on actions include replacing the seat identification placard with a new placard, and installing a new modification placard near the seat identification placard.

ATR Service Bulletins ATR42-25-0141 and ATR72-25-1082 both reference SICMA Service Bulletin 138-25-008, dated September 18, 2002, as an additional source of service information for procedures to modify the forward flight attendant's seat, and perform follow-on actions.

Accomplishment of the actions specified in the service bulletins is intended to adequately address the identified unsafe condition. The DGAC classified these service bulletins as mandatory and issued French airworthiness directive 2002-539(B), dated October 30, 2002, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as described below.

Difference Between Proposed Rule and French Airworthiness Directive

The French airworthiness directive specifies certain Aerospatiale Model ATR42-400 series airplanes. However, the applicability of this proposed rule does not include that airplane model because the FAA has not issued a type certificate for that model; therefore, that model is not included on the most recent type certificate data sheet for the affected models.

Cost Impact

The FAA estimates that approximately 80 Aerospatiale Model ATR42-200, -300, -320, and -500 series airplanes, and Model ATR72-102, -202, -212, and -212A series airplanes of U.S. registry would be affected by this proposed AD, that it would take approximately 1 work hour per airplane to accomplish the proposed actions, and that the average labor rate is $60 per work hour. Required parts would cost approximately $1,786 per airplane. Based on these figures, the cost impact of the proposed AD on U.S. operators is estimated to be $147,680, or $1,846 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Aerospatiale: Docket 2002-NM-331-AD.

Applicability: Airplanes listed in the following table, certificated in any category:

Airplane models— | Including models on which these modifications have been installed— | Including models on which these modifications have not been installed—
ATR42-200, -300, and -320 series airplanes | 0384, 1685, or 1991; or modifications per Service Bulletins ATR42-25-0082, ATR42-98-331A, or ATR42-98-409C | 5328 per Service Bulletin ATR42-25-0141, or 619 (i.e., 0619). 8023 per Service Bulletin ATR42-98-025A.
ATR42-500 series airplanes | 4181 or 5042 | 5301 per Service Bulletin ATR42-98-524D. 5328 per Service Bulletin ATR42-25-0141.
ATR72-102, -202, -212, and -212A series airplanes | None | 5328 (replacement of the inertia-reel harness with a fixed harness) per Service Bulletin ATR72-25-1082.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent release of the forward flight attendant's shoulder restraint harness, which could result in injury to the flight attendant in case of turbulence; accomplish the following:

Modification

(a) Within 18 months after the effective date of this AD: Modify the forward flight attendant's seat located in the front of the cabin (including replacing the inertia-reel harness with a new fixed harness, and replace the backrest cover and backrest cushion with new components), per Avions de Transport Regional (ATR) Service Bulletin ATR42-25-0141, dated October 15, 2002 (for Model ATR42-200, -300, -320, and -500 series airplanes); or Service Bulletin ATR72-25-1082, dated October 15, 2002 (for Model ATR72-102, -202, -212, and -212A series airplanes); as applicable.

Follow-on Actions

(b) Before further flight following accomplishment of the modification required by paragraph (a) of this AD: Accomplish paragraphs (b)(1) and (b)(2) of this AD per ATR Service Bulletin ATR42-25-0141, dated October 15, 2002; or ATR Service Bulletin ATR72-25-1082, dated October 15, 2002; as applicable.

(1) Replace the seat identification placard with a new placard having a new part number (P/N).

(2) Install a new modification placard to indicate accomplishment of the SICMA Service Bulletin 138-25-008, dated September 18, 2002.

Note 2: ATR Service Bulletins ATR42-25-0141 and ATR72-25-1082 reference SICMA Service Bulletin 138-25-008 as an additional source of service information for procedures to modify the forward flight attendant's seat, and to perform follow-on actions (including replacing the seat identification placard with a new placard, and installing a new modification placard).

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 4: The subject of this AD is addressed in French airworthiness directive 2002-539(B), dated October 30, 2002.

Issued in Renton, Washington, on February 13, 2003.
Ali Bahrami,
Acting Manager, Transport Airplane Directorate, Aircraft Certification Service.

[FR Doc. 03-4168 Filed 2-20-03; 8:45 am]

BILLING CODE 4910-13-P